NUCLEAR REGULATORY COMMISSION

Advisory Committee on the Medical Uses of Isotopes: Call for Nominations

AGENCY: U.S. Nuclear Regulatory Commission.

ACTION: Call for Nominations.

SUMMARY: The U.S. Nuclear Regulatory Commission (NRC) is advertising for nominations for the nuclear medicine physician position and the radiation oncologist position on the Advisory Committee on the Medical Uses of Isotopes (ACMUI). Nuclear medicine physician nominees should currently be practicing nuclear medicine in a clinical setting. Radiation oncologist nominees should currently be practicing radiation oncology to include clinical use of the Gamma Knife® unit.

DATES: Nominations are due on or before October 27, 2009.

Nomination Process: Submit an electronic copy of resume or curriculum vitae, along with a cover letter, to Ms. Ashley Cockerham, ashley.cockerham@nrc.gov. The cover letter should describe the nominee's current duties and responsibilities and express the nominee's interest in the position. Please ensure that resume or curriculum vitae includes the following information, if applicable: Education; certification; professional association membership and committee membership activities; duties and responsibilities in current and previous clinical, research, and/or academic position(s).

FOR FURTHER INFORMATION CONTACT: Ms. Ashley Cockerham, U.S. Nuclear Regulatory Commission, Office of Federal and State Materials and Environmental Management Programs; (240) 888-7129; ashley.cockerham@nrc.gov.

SUPPLEMENTARY INFORMATION: The ACMUI nuclear medicine physician provides advice to NRC staff on issues associated with the regulation of diagnostic and therapeutic applications of byproduct material. This advice includes providing input on NRC proposed rules and guidance documents, providing recommendations on the training and experience requirements for physicians specializing in diagnostic and therapeutic nuclear medicine, identifying medical events associated with these uses, evaluating non-routine medical uses of byproduct material, bringing key issues in the nuclear medicine community to the attention of NRC staff, and other nuclear medicine issues as they relate to radiation safety and NRC medical-use policy.

The ACMUI Gamma Stereotactic Radiosurgery (GSR) radiation oncologist provides advice on issues associated with radiation oncology and the clinical use of GSR. This advice includes providing input on NRC proposed rules and guidance documents, providing recommendations on the training and experience requirements for physicians specializing in this use, identifying medical events associated with this use, evaluating new models of GSR units, bringing key issues in the radiation oncology community to the attention of NRC staff, and other radiation oncology issues as they relate to radiation safety and NRC medical-use policy.

ACMUI members are selected based on their educational background, certification(s), work experience, involvement and/or leadership in professional society activities, and other information obtained in letters or during the selection process. ACMUI members currently serve a four-year term and may be considered for reappointment to an additional term. The current membership is comprised of the following professionals: (a) Nuclear medicine physician; (b) nuclear cardiologist; (c) nuclear medicine physicist; (d) therapy medical physicist; (e) radiation safety officer; (f) nuclear pharmacist; (g) two radiation oncologists; (h) patients' rights advocate; (i) Food and Drug Administration representative; (j) Agreement State representative; and (k) health care administrator. For additional information about membership on the ACMUI, visit the ACMUI Membership Web page, http://www.nrc.gov/about-nrc/regulatory/advisory/acmui/membership.html.

Nominees must be U.S. citizens and be able to devote approximately 160 hours per year to Committee business. Members are expected to attend semi-annual meetings in Rockville, Maryland and to participate in teleconferences, as needed. Members who are not Federal employees are compensated for their service. In addition, these members are reimbursed for travel and correspondence expenses. Full-time Federal employees are reimbursed travel expenses only.

Security Background Check: The selected nominee will undergo a thorough security background check. Security paperwork may take the nominee several weeks to complete. Nominees will also be required to complete a financial disclosure statement to avoid conflicts of interest.

Dated at Rockville, Maryland, this 24th day of August 2009.
For the U.S. Nuclear Regulatory Commission.
Andrew L. Bates,
Advisory Committee Management Officer.

[FR Doc. E9-20813 Filed 8-27-09; 8:45 am]

BILLING CODE 7590-01-P